DEPARTMENT OF THE INTERIOR

Fish and Wildlife Service

[FWS-R8-R-2014-N062; FXRS12610800000-145-FF08R00000]

Sonny Bono Salton Sea National Wildlife Refuge Complex; Final Comprehensive Conservation Plan and Finding of No Significant Impact

AGENCY: Fish and Wildlife Service, Interior.

ACTION: Notice of availability.

SUMMARY: We, the U.S. Fish and Wildlife Service (Service), announce the availability of our final Comprehensive Conservation Plan (CCP) and finding of no significant impact (FONSI) for the Sonny Bono Salton Sea National Wildlife Refuge (NWR) Complex, which includes the Sonny Bono Salton Sea NWR and Coachella Valley NWR. In the CCP, we describe how we will manage these Refuges for the next 15 years.

DATES: The CCP and FONSI are available now. The FONSI was signed on March 6, 2014. Implementation of the CCP will begin immediately.

ADDRESSES: You may view or obtain copies of the final CCP and FONSI by any of the following methods. You may request a CD-ROM. A limited number of paper copies are available.

Agency Web site: Download a copy of the document(s) at http://www.fws.gov/refuge/Sonny_Bono_Salton_Sea/what_we_do/planning.html.

Email: Victoria_Touchstone@fws.gov. Include “Sonny Bono Salton Sea CCP” in the subject line of the message.

Fax: Attn: Victoria Touchstone, 619-476-9149.

U.S. Mail: Victoria Touchstone, U.S. Fish and Wildlife Service, P.O. Box 2358, Chula Vista, CA 91912.

In-Person Viewing or Pickup: Copies of the final CCP and FONSI may also be viewed at the Sonny Bono Salton Sea NWR Office between 8 a.m. to 3 p.m.; call 760-348-5278 for directions.

FOR FURTHER INFORMATION CONTACT: Victoria Touchstone, Refuge Planner, at 619-476-9150, extension 103 (by telephone; you may also use one of the methods under ADDRESSES), or Chris Schoneman, Project Leader, at 760-348-5278, extension 227.

SUPPLEMENTARY INFORMATION: We, the U.S. Fish and Wildlife Service (Service), announce the availability of our final Comprehensive Conservation Plan (CCP) and finding of no significant impact (FONSI) for the Sonny Bono Salton Sea National Wildlife Refuge (NWR) Complex, which includes the Sonny Bono Salton Sea NWR and Coachella Valley NWR. The Refuge Complex is located in parts of Imperial and Riverside Counties, California. In the CCP, we describe how we will manage these Refuges for the next 15 years.

Background

The Sonny Bono Salton Sea NWR was established as a 32,766-acre sanctuary and breeding ground for birds and other wildlife in 1930 (Executive Order 5498). Additional leased lands have been added to the Refuge under the authorities of the Migratory Bird Conservation Act (16 U.S.C. 715d), “for use as an inviolate sanctuary, or for any other management purpose, for migratory birds,” and the Lea Act (16 U.S.C. 695), “for the management and control of migratory waterfowl, and other wildlife.” Today, with the original Refuge lands covered by the waters of the Salton Sea, management activities are focused on about 2,000 acres of primarily leased land. Approximately 900 acres consist of managed wetlands that support resident and migratory birds, and another 850 acres are farmed to provide forage for wintering geese and other migratory birds. Existing public uses include waterfowl hunting, fishing, wildlife observation, photography, environmental education, interpretation, and scientific research.

The Coachella Valley NWR was established in 1985 under the authorities of the Endangered Species Act of 1973 (16 U.S.C. 1534), “to conserve (A) fish or wildlife which are listed as endangered species or threatened species or (B) plants.” The 3,577-acre Refuge, which is part of the larger Coachella Valley Preserve, protects the federally listed endangered Coachella Valley milk-vetch (Astragalus lentiginosus var. coachellae) and threatened Coachella Valley fringe-toed lizard (Uma inornata), as well as other desert-dwelling species adapted to living in the sand dune habitat of the Coachella Valley. Access onto the Refuge is limited to a designated corridor for equestrian and hiking use.

We announce our decision and the availability of the FONSI for the final CCP for the Sonny Bono Salton Sea NWR Complex in accordance with National Environmental Policy Act (NEPA) (40 CFR 1506.6(b)) requirements. We completed a thorough analysis of impacts on the human environment, which we included in the environmental assessment (EA) that accompanied the draft CCP.

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation. We intend to review and update the CCP at least every 15 years in accordance with the Administration Act.

Our draft CCP and EA were available for a 30-day public review and comment period, which we announced via several methods, including press releases, updates to constituents, and a Federal Register notice (78 FR 44144; July 23, 2013). The draft CCP/EA identified and evaluated three alternatives for managing the Sonny Bono Salton Sea NWR and three alternatives for managing the Coachella Valley NWR for the next 15 years.

Alternatives Considered

Sonny Bono Salton Sea NWR

Under Alternative A (no action), management would continue unchanged. Under Alternative B (preferred alternative), the Service would expand current habitat management activities to enhance habitat quality, particularly in managed wetlands and agricultural fields; initiate the phased restoration of shallow saline water habitat at Red Hill Bay, an area of the Salton Sea that has recently receded; implement predator management to protect nesting western gull-billed terns (Gelochelidon nilotica vanrossemi) and black skimmers (Rynchops niger); and implement an integrated pest management (IPM) plan to control invasive plants. Various actions were also proposed to improve existing public use facilities and provide additional opportunities for wildlife observation and photography.

Under Alternative C, the Service would implement wildlife and habitat management actions, including predator management and an IPM plan, similar to those proposed in Alternative B. The proposals for public use in Alternative C would focus on enhancing existing facilities in Units 1 and 2, rather than providing additional public use facilities.

Coachella Valley NWR

Under Alternative A (no action), management would continue unchanged. Under Alternative B (preferred alternative), the Service would increase listed and sensitive species management; implement an IPM plan to control invasive plants; enhance the habitat quality of an old agricultural site by reintroducing appropriate native plant species; and, in partnership with others, develop and implement a long-term sand transport monitoring plan. Also proposed is an expanded public outreach program. Occasional guided tours of the Refuge would continue at current levels, and the only public access onto the Refuge would occur on a designated trail corridor that extends along portions of the Refuge's western and northern boundary. The remainder of the Refuge would continue to be closed to the public.

Under Alternative C, the Service would expand current management to protect listed and sensitive species; implement an IPM Plan to control invasive plants; and initiate a comprehensive restoration plan for an old agricultural site on the Refuge to restore creosote bush scrub habitat. In addition, the existing public outreach program would be expanded and interpretive signs would be installed along the existing trail corridor. Occasional guided tours of the Refuge would continue at current levels, and public access would continue to be limited to the existing public trail corridor. All other areas within the Refuge would remain closed to the public.

Selected Alternative for Each Refuge

During the review period for the draft CCP and EA, we received 13 letters containing over 85 comments. Comments focused on land tenure, Colorado River water history, water rights, water levels in the Salton Sea, groundwater availability in the Coachella Valley, cultural resource protection, water quality, geothermal development, restoration of Red Hill Bay, protection of nesting western gull-billed terns, and restoration and management of the Salton Sea. We incorporated comments we received into the CCP when appropriate, and we responded to the comments in an appendix to the CCP. In the FONSI, we selected Alternative B (restore and enhance habitat quality; expand opportunities for wildlife observation, environmental education, and interpretation) for implementation on the Sonny Bono Salton Sea NWR and Alternative B (expand management actions to support listed and sensitive species; expand public outreach) for implementation on the Coachella Valley NWR. The FONSI documents our decision and is based on information and analysis contained in the EA.

The alternative we selected for each of the Refuges within the Sonny Bono Salton Sea NWR Complex was determined to be the alternative that would most effectively achieve Refuge purposes, goals, and objectives; contribute to the National Wildlife Refuge System mission; and be consistent with principles of sound fish and wildlife management. Implementation of the selected alternative will be subject to the availability of funding and other resources, and may occur incrementally over the life of the 15-year plan. Based on the associated EA, the selected alternatives are not expected to result in significant environmental impacts and therefore do not require the preparation of an environmental impact statement.

Alexandra Pitts,
Acting Regional Director, Pacific Southwest Region, Sacramento, California.

[FR Doc. 2014-22272 Filed 9-17-14; 8:45 am]

BILLING CODE 4310-55-P